DEPARTMENT OF THE INTERIOR

Bureau of Indian Affairs

[256A2100DD/AAKC001030/A0A501010.999900]

Indian Gaming; Approval of the Tribal-State Class III Gaming Compact Amendment Between the Confederated Tribes of the Warm Springs Reservation of Oregon and the State of Oregon

AGENCY: Bureau of Indian Affairs, Interior.

ACTION: Notice.

SUMMARY: This notice publishes the approval of the Amendment to the Amended and Restated (Highway 26) Tribal-State Compact for Regulation of Class III Gaming between the Confederated Tribes of The Warm Springs Reservation of Oregon and the State of Oregon, which governs the operation and regulation of class III gaming activities.

DATES: The Amendment takes effect on December 13, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment makes changes to the scope of gaming and adds technical regulations to support those changes. The Amendment is approved.

Bryan Newland,
Assistant Secretary—Indian Affairs.

[FR Doc. 2024-29450 Filed 12-12-24; 8:45 am]

BILLING CODE 4337-15-P